DEPARTMENT OF COMMERCE

National Oceanic and Atmospheric Administration

15 CFR Part 922

Initiation of Review of Management Plan for Stellwagen Bank National Marine Sanctuary; Intent To Conduct Scoping and Prepare Draft Environmental Analysis and Management Plan

AGENCY: Office of National Marine Sanctuaries (ONMS), National Ocean Service (NOS), National Oceanic and Atmospheric Administration (NOAA), Department of Commerce (DOC).

ACTION: Initiation of review of management plan; intent to conduct scoping and prepare environmental analysis under the National Environmental Policy Act.

SUMMARY: In accordance with Section 304(e) of the National Marine Sanctuaries Act, as amended (NMSA), the Office of National Marine Sanctuaries (ONMS) of the National Oceanic and Atmospheric Administration (NOAA) is initiating a review of the Stellwagen Bank National Marine Sanctuary (SBNMS or the sanctuary) management plan, to evaluate substantive progress toward implementing the goals of the sanctuary, and to make revisions to the management plan as necessary to fulfill the purposes and policies of the NMSA. NOAA anticipates management plan changes will require preparation of an environmental analysis under the National Environmental Policy Act (NEPA). NOAA will conduct public scoping meetings to gather information and other comments from individuals, organizations, tribes and government agencies on the scope, types, and significance of issues related to the SBNMS management plan and the proper scope of environmental analysis for the management plan review. The scoping meetings are scheduled as detailed in the DATES section.

DATES: Written comments should be received on or before April 10, 2020. Public scoping meetings will be held on:

(1) Date: Wednesday, March 11, 2020, Location: New England Aquarium, 1 Central Wharf, Boston, MA, 02110, Time: 6:30-8 p.m.

(2) Date: Thursday, March 12, 2020, Location: Maritime Gloucester, 23 Harbor Loop, Gloucester, MA, 01930, Time: 6:30-8 p.m.

(3) Date: Wednesday, March 18, 2020, Location: Massachusetts Maritime Academy, 101 Academy Drive, Buzzards Bay, MA, 02532, Time: 6:30-8 p.m.

ADDRESSES: You may submit comments on this document, identified by NOAA-NOS-2020-0003, by any of the following methods:

• Electronic Submission: Submit all electronic public comments via the Federal e-Rulemaking Portal. Go to www.regulations.gov/#!docketDetail;D=NOAA-NOS-2020-0003, click the “Comment Now!” icon, complete the required fields, and enter or attach your comments.

• Mail: Stellwagen Bank NMS, 175 Edward Foster Road, Scituate, MA, 02066, Attn: Management Plan Revision.

Instructions: Comments sent by any other method, to any other address or individual, or received after the end of the comment period, may not be considered by NOAA. All comments received are a part of the public record and will generally be posted for public viewing on www.regulations.gov without change. All personally identifying information (e.g., name, address, etc.), confidential business information, or otherwise sensitive information submitted voluntarily by the sender will be publicly accessible. NOAA will accept anonymous comments (enter “N/A” in the required fields if you wish to remain anonymous).

FOR FURTHER INFORMATION CONTACT: Ben Haskell, 781-545-8026, sbnmsmanagementplan@noaa.gov.

SUPPLEMENTARY INFORMATION:

Background

SBNMS was designated in October 1992. It spans 842-square-miles (638-square-nautical-mile) at the mouth of Massachusetts Bay. The sanctuary boundary is somewhat rectangular, stretching from three miles southeast of Cape Ann to three miles north of Cape Cod. The sanctuary is about 25 miles east of Boston, and lies totally within federal waters. It encompasses all of Stellwagen and Tillies Banks, and the southern portion of Jeffreys Ledge. SBNMS is administered by NOAA, within the U.S. Department of Commerce, and was designated to conserve, protect, and enhance the biodiversity, ecological integrity, and cultural legacy of marine resources for current and future generations. Sanctuary programs in education, conservation, science, and stewardship help protect SBNMS and its nationally-significant resources, while promoting public use and enjoyment through compatible human activities.

The current SBNMS management plan was published in 2010, and is available on the internet here: https://stellwagen.noaa.gov/management/fmp/fmp2010.html.

In 2016, NOAA completed an internal assessment of progress toward implementation of the 2010 management plan. The assessment found that 66% (69 of 104 activities) of the management plan's activities had been fully or partially completed or were still being implemented as ongoing functions, while 35% (36 of 104 activities) were not yet started or had been placed on hold. Results of the 2016 internal assessment were discussed at a public meeting of the sanctuary advisory council in October, 2016.

Reviewing the SBNMS management plan may result in proposed changes to existing programs and policies to address contemporary issues and challenges, and to better protect and manage the sanctuary's resources and qualities. The review process is composed of four major stages: (1) Information collection and characterization; (2) preparation and release of a draft management plan and environmental document under NEPA, and any proposed amendments to the regulations; (3) public review and comment; and (4) preparation and release of a final management plan and environmental document, and any final amendments to the regulations, if applicable. NOAA will also address other statutory and regulatory requirements that may be required pursuant to the Endangered Species Act (ESA), Marine Mammal Protection Act, Essential Fish Habitat (EFH) provisions of the Magnuson-Stevens Fishery Conservation and Management Act (Magnuson-Stevens Act), Coastal Zone Management Act (CZMA), National Historic Preservation Act (NHPA), and tribal consultation responsibilities under Executive Order 13175.

Condition Report

To inform the SBNMS management plan review, NOAA has updated the Stellwagen Bank National Marine Sanctuary Condition Report, which was first published in 2007. The 2007 report provided a summary of resources in SBNMS, pressures on those resources, current conditions and recent trends within the sanctuary, and management responses to mitigate negative impacts. The 2020 Condition Report has updated current conditions and recent changes for water quality, habitat, living resources and maritime archaeological resources in the sanctuary. The report is available to the general public on the internet at: http://sanctuaries.noaa.gov/science/condition/welcome.html.

Preliminary Priority Topics

NOAA has prepared a preliminary list of priority topics to consider during the SBNMS management plan review process. NOAA is interested in public comment on these topics, as well as any other issues of interest that are relevant to the SBNMS management plan review (including additional topics raised through public comment, and tribal and interagency consultation).

Climate Change

Climate change is widely acknowledged, yet there is considerable uncertainty about current and future consequences at local, ecosystem and oceanic scales. Increased coordination and cooperation among science and resource management agencies are required to improve planning, monitoring and adaptive management to address this phenomenon as it pertains to the protection of SBNMS resources. NOAA is interested in ideas about how to best incorporate management efforts seeking to mitigate the effects of climate change into the SBNMS management plan.

Water Quality Monitoring

Water quality is key to ensuring protection for all sanctuary resources. Relatively little is known about the types, sources, or levels of emerging contaminants and marine debris (including lost fishing gear) within the sanctuary. NOAA believes more focused attention on specific water quality issues is needed, to understand both their status in the sanctuary as well as their role in the larger Gulf of Maine ecosystem.

Education, Outreach and Citizen Science

Enhancing the public's awareness and appreciation of sanctuary resources is a cornerstone of the SBNMS mission. NOAA is seeking the public's view on developing and enhancing programs designed to enhance public awareness, including opportunities to participate in environmental research and monitoring, integrating outreach into all education levels, and more effective partnering with Federal and state agencies, local businesses and organizations, and other user groups.

Sanctuary Soundscape

SBNMS is an active area with significant populations of marine mammals, as well as extensive human activity and vessel movements, particularly transiting to and from the major US port in Boston Harbor. NOAA is concerned about impacts to the SBNMS soundscape from the cumulative effects of underwater noise generated by a variety of human activities (including the potential offshore energy development), and expanded use of unmanned aircraft systems over the sanctuary.

Maritime Heritage Management

SBNMS contains a rich repository of submerged maritime heritage resulting from over 400 years of maritime activity in the region. NOAA seeks public input on the history and context of the ancient, historic, and modern communities who have depended on sanctuary waters for their livelihood and culture, the ships and the industries of the region and options to best conserve and protect these cultural assets in the future.

Regulatory and Boundary Changes

In preparing for public scoping, NOAA has not identified the need for any changes to SBNMS regulations. However, regulatory changes may be considered based on a review of public scoping comments and, if proposed, would be presented for public review with the publication of a proposed rulemaking.

Public Comments

NOAA is interested in hearing the public's views on:

• The effectiveness of the existing management plan in meeting both the mandates of the NMSA and SBNMS goals and objectives.

• The public's view on the effectiveness of the SBNMS programs, including programs focused on: Resource protection; research and monitoring; education; volunteer; and outreach.

• NOAA's implementation of SBNMS regulations and permits.

• Adequacy of existing boundaries to protect sanctuary resources.

• Assessment of the existing operational and administrative framework (staffing, offices, vessels, etc.).

• The potential impacts of the proposed actions discussed above and ways to mitigate these impacts.

• The relevance and timeliness of management issues identified above.

Federal Consultations

This document also advises the public that NOAA will coordinate its consultation responsibilities under section 7 of the ESA, EFH under the Magnuson-Stevens Act, section 106 of the NHPA (16 U.S.C. 470), and Federal Consistency review under the CZMA. Through its ongoing NEPA process and the use of NEPA documents and public and stakeholder meetings, NOAA will also coordinate compliance with other federal laws.

In fulfilling its responsibility under the NHPA and NEPA, NOAA intends to identify consulting parties; identify historic properties and assess the effects of the undertaking on such properties; initiate formal consultation with the State Historic Preservation Officer, the Advisory Council of Historic Preservation, and other consulting parties; involve the public in accordance with NOAA's NEPA procedures; and develop in consultation with identified consulting parties alternatives and proposed measures that might avoid, minimize, or mitigate any adverse effects on historic properties and describe them in any environmental analysis.

NOAA will also initiate communications and consultation steps with relevant federally recognized tribal governments pursuant to Executive Order 13175, Department of Commerce tribal consultation policies, and NOAA procedures for government-to-government consultation with federally recognized Indian Tribes.

Authority: 16 U.S.C. 1431 et seq.

John Armor,
Director, Office of National Marine Sanctuaries.

[FR Doc. 2020-02832 Filed 2-12-20; 8:45 am]

BILLING CODE 3510-NE-P